DEPARTMENT OF DEFENSE

Department of the Army

Western Hemisphere Institute for Security Cooperation Board of Visitors; Meeting

AGENCY: Department of the Army, DoD.

ACTION: Notice of open meeting.

SUMMARY: This notice sets forth the schedule and summary agenda for the meeting of the Board of Visitors (BoV) for the Western Hemisphere Institute for Security Cooperation (WHINSEC). Notice of this meeting is required under the Federal Advisory Committee Act (Pub. L. 92-463). The Board's charter was renewed on February 1, 2006 in compliance with the requirements set forth in Title 10 U.S.C. 2166.

Date: June 15, 2006.

Time: 9 a.m. to 4 p.m.

Location: Rayburn House Office Building, Room 2212, Washington, DC.

Proposed Agenda: The WHINSEC BoV will be briefed on activities at the Institute since the last Board meeting in December 2005 as well as receive other information appropriate to its interests.

FOR FURTHER INFORMATION CONTACT: WHINSEC Board of Visitors Executive Secretariat at (703) 692-8779 or (703) 614-8721.

SUPPLEMENTARY INFORMATION: The meeting is open to the public. The Board will adjourn for lunch between 11:30 a.m. and 1 p.m. Public comment by individuals and organizations may be made from 3 p.m. to 3:30 p.m. Public comments will be limited to three minutes each. Anyone desiring to make an oral statement must register by sending a fax to (703) 614-8920 with their name, phone number, e-mail address, and the full text of their comments by 5 p.m. EST on Friday, June 9, 2006. The first ten requestors will be notified by 5 p.m. EST on Tuesday, June 13 of their time to address the Board during the public comment forum. All other comments will be retained for the record. Public seating is limited and will be available only on a first come, first serve basis.

Brenda S. Bowen,
Army Federal Register Liaison Officer.

[FR Doc. 06-5010 Filed 5-30-06; 8:45 am]

BILLING CODE 3710-08-M